DEPARTMENT OF THE INTERIOR

National Park Service

National Park System Advisory Board Reestablishment

AGENCY: National Park Service, Interior.

ACTION: Notice of Reestablishment of the National Park System Advisory Board.

SUMMARY: The Secretary of the Interior intends to administratively reestablish the National Park System Advisory Board. This action is necessary and in the public interest in connection with the performance of statutory duties imposed upon the Department of the Interior and the National Park Service.

FOR FURTHER INFORMATION CONTACT: Bernard Fagan, 202-208-7456; or Shirley Sears Smith, 202-208-7456; or Jennifer Lee, 202-219-1689.

SUPPLEMENTARY INFORMATION: The National Park System Advisory Board was first established by section 3 of the Act of August 21, 1935 (49 Stat. 667; 16 U.S.C. 463). The Board has been statutorily reauthorized several times since then. However, the Board's current statutory authorization expired January 1, 2007. The advice and recommendations provided by the Board and its subcommittees fulfill an important need within the Department of the Interior and the National Park Service, and it therefore is necessary to administratively reestablish the Board to ensure that its work is not disrupted. The Board's 12 members will be balanced to represent a cross-section of disciplines and expertise relevant to the National Park Service mission. The administrative reestablishment of the Board comports with the requirements of the Federal Advisory Committee Act, as amended (5 U.S.C., Appendix), and follows consultation with the General Services Administration. The reestablishment will be effective on the date the charter is filed pursuant to section 9(c) of the Act and 41 CFR 102-3.70.

Certification: I hereby certify that the administrative reestablishment of the National Park System Advisory Board is necessary and in the public interest in connection with the performance of duties imposed on the Department of the Interior by the Act of August 25, 1916, 16 U.S.C. 1 et seq., and other statutes relating to the administration of the National Park System.

Dirk Kempthorne,
Secretary of the Interior.

[FR Doc. E7-22877 Filed 11-21-07; 8:45 am]

BILLING CODE 4312-52-P